DEPARTMENT OF AGRICULTURE

Forest Service

Olympic Peninsula Resource Advisory Committee

AGENCY: Forest Service, USDA.

ACTION: Notice of Meeting.

SUMMARY: The Olympic Peninsula Resource Advisory Committee will meet on Wednesday, February 16, 2005. The meeting will be held at Olympic National Forest Headquarters, 1835 Black Lake Blvd., SW., Olympia, Washington. The meeting will begin at 9:30 a.m. and end at approximately 3:30 p.m. Agenda topics are: Overview of the Secure Rural School and Community Self-Determination Act of 2000; overview of the Federal Advisory Committee Act; approval of Title II expenditures for an individual to attend the National Resource Advisory Committee workshop; roles and responsibilities of Resource Advisory Committee (RAC) members; review and approve RAC bylaws; review the Title II project submission process; Title III project updates; election of RAC Chairperson and Vice-Chairperson; approve future meetings date; open forum; and public comments.

All Olympic Peninsula Resource Advisory Committee Meetings are open to the public. Interested citizens are encouraged to attend.

FOR FURTHER INFORMATION CONTACT: Direct questions regarding this meeting to Ken Eldredge, Province Liaison, USDA, Olympic National Forest Headquarters, 1835 Black Lake Blvd., Olympia, WA 98512-5623, (360) 956-2323 or Dale Hom, Forest Supervisor, at (360) 956-2301.

Dated: January 25, 2005.
Dale Hom,
Forest Supervisor, Olympic National Forest.

[FR Doc. 05-1721 Filed 1-28-05; 8:45 am]

BILLING CODE 3410-11-M